DEPARTMENT OF DEFENSE

Office of the Secretary

[Transmittal No. 25-64]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-64 and Policy Justification.

Dated: January 22, 2026.
Stephanie J. Bost,
Alternate OSD Federal Register Liaison Officer, Department of Defense.

BILLING CODE 6001-FR-P

BILLING CODE 6001-FR-C

Transmittal No. 25-64

Notice of Proposed Issuance of Letter of Offer, Pursuant to Section 36(b)(1) of the Arms Export Control Act, as amended

(i) Prospective Purchaser: Government of Poland

(ii) Total Estimated Value:

Major Defense Equipment * | $ 0
Other | $1.85 billion
TOTAL | $1.85 billion

Funding Source: National Funds

(iii) Description and Quantity or Quantities of Articles or Services under Consideration for Purchase: The Government of Poland has requested to buy equipment and services in support of F-35 sustainment, including the aircraft engine Component Improvement Program (CIP).

Major Defense Equipment (MDE):

None

Non-MDE:

The following non-MDE items will be included: major and minor modifications; spare parts, consumables and accessories, and repair and return support; weapon system support, including software; classified software and delivery support; classified and unclassified publications and technical documentation; clothing, textiles, and individual equipment; United States (U.S.) Government and contractor engineering, technical, and logistics support services; and other related elements of logistics and program support.

(iv) Military Department: Air Force (PL-D-QBI)

(v) Prior Related Cases, if any: PL-D-SAI

(vi) Sales Commission, Fee, etc., Paid, Offered, or Agreed to be Paid: None known at this time

(vii) Sensitivity of Technology Contained in the Defense Article or Defense Services Proposed to be Sold: None

(viii) Date Report Delivered to Congress: August 26, 2025

* as defined in Section 47(6) of the Arms Export Control Act.

POLICY JUSTIFICATION

Poland—F-35 Sustainment

The Government of Poland has requested to buy equipment and services in support of F-35 sustainment, including the aircraft engine Component Improvement Program (CIP). The following non-MDE items will be included: major and minor modifications; spare parts, consumables and accessories, and repair and return support; weapon system support, including software; classified software and delivery support; classified and unclassified publications and technical documentation; clothing, textiles, and individual equipment; U.S. Government and contractor engineering, technical, and logistics support services; and other related elements of logistics and program support. The estimated total cost is $1.85 billion.

This proposed sale will support the foreign policy and national security objectives of the U.S. by improving the security of a NATO Ally that is a force for political and economic stability in Europe.

The proposed sale will improve Poland's capability to meet current and future threats by increasing the reliability of its F-35 fleet. Poland will have no difficulty absorbing these articles and services into its armed forces.

The proposed sale of this equipment and support will not alter the basic military balance in the region.

The principal contractor will be Lockheed Martin Aeronautics Company, located in Fort Worth, TX. At this time, the U.S. Government is not aware of any offset agreement proposed in connection with this potential sale. Any offset agreement will be defined in negotiations between the purchaser and the contractor.

Implementation of this proposed sale will not require the assignment of any additional U.S. Government or contractor representatives to Poland.

There will be no adverse impact on U.S. defense readiness as a result of this proposed sale.

[FR Doc. 2026-01490 Filed 1-26-26; 8:45 am]

BILLING CODE 6001-FR-P